DEPARTMENT OF THE TREASURY

Fiscal Service

Surety Companies Acceptable on Federal Bonds—Terminations: Allstate Insurance Company, Continental Western Insurance Company, Dairyland Insurance Company, Economy Fire & Casualty Company, First Excess and Reinsurance Corporation, First Financial Insurance Company, National Reinsurance Corporation, Navigators Insurance Company, Northbrook Property and Casualty Insurance Company, Security National Insurance Company, TIG Insurance Company of Michigan, TIG Premier Insurance Company, Tri-State Insurance Company of Minnesota, Trinity Universal Insurance Company of Kansas, Inc., Risk Capital Reinsurance Company

AGENCY: Financial Management Service, Fiscal Service, Department of the Treasury.

ACTION: Notice.

SUMMARY: This is Supplement No. 26 to the Treasury Department Circular 570; 1999 Revision, published July 1, 1999, at 64 FR 35864.

FOR FURTHER INFORMATION CONTACT: Surety Bond Branch at (202) 874-6775.

SUPPLEMENTARY INFORMATION: Notice is hereby given that the Certificate of Authority issued by the Treasury to the above named Companies, under the United States Code, Title 31, Sections 9304-9308, to qualify as an acceptable surety on Federal bonds was terminated effective June 30, 2000.

The Companies were last listed as acceptable sureties on Federal bonds at 64 FR starting on page 35864, July 1, 1999.

With respect to any bonds currently in force with above listed companies, bond-approving officers may let such bonds run to expiration and need not secure new bonds. However, no new bonds should be accepted from these companies. In addition, bonds that are continuous in nature should not be renewed.

The Circular may be viewed and downloaded through the Internet at http://www.fms.treas.gov/c570/index.html. A hard copy may be purchased from the Government Printing Office (GPO), Subscription Service, Washington, DC, telephone (202) 512-1800. When ordering the Circular from GPO, use the following stock number: 048000-00527-6.

Questions concerning this notice may be directed to the U.S. Department of the Treasury, Financial Management Service, Financial Accounting and Services Division, Surety Bond Branch, 3700 East-West Highway, Room 6A04, Hyattsville, MD 20782.

Dated: June 30, 2000.
Michael C. Salapka,
Acting Director, Financial Accounting and Services Division, Financial Management Service.

[FR Doc. 00-17685 Filed 7-12-00; 8:45 am]

BILLING CODE 4810-35-M